FEDERAL MARITIME COMMISSION

[Docket No. 24-12]

Notice of Filing of Complaint and Assignment; 20230930-DK-BUTTERFLY-1, Inc. F/K/A Bed Bath & Beyond Inc., Complainant, v. Evergreen Line Joint Service Agreement (FMC #011982) Consisting of Evergreen Marine Corp. (Taiwan) Ltd., Evergreen Marine (UK) Ltd., Italia Marittima SpA, Evergreen Marine (Hong Kong) Ltd., and Evergreen Marine (Singapore) Pte. Ltd., Respondents

Served: February 21, 2024.

Notice is given that a complaint has been filed with the Federal Maritime Commission (the “Commission”) by 20230930-DK-BUTTERFLY-1, Inc. formerly known as Bed Bath & Beyond Inc. (the “Complainant”) against Evergreen Line Joint Service Agreement (FMC #011982) consisting of Evergreen Marine Corp. (Taiwan) Ltd., Evergreen Marine (UK) Limited, Italia Marittima SpA, Evergreen Marine (Hong Kong) Ltd., and Evergreen Marine (Singapore) Pte. Ltd. (the “Respondents”). Complainant states that the Commission has subject matter jurisdiction over the complaint pursuant to 46 U.S.C. 41301 through 41309 and personal jurisdiction over the Respondents as each is an “ocean common carrier,” as this term is defined by 46 U.S.C. 40102(18), that has entered into a “service contract,” as this term is defined by 46 U.S.C. 40102(21), with the Complainant.

Complainant is a corporation existing under the laws of New York that was formerly known as Bed Bath & Beyond Inc. and a “shipper,” as this term is defined by 46 U.S.C. 40102(23), for the purposes of the allegations of the complaint.

Complainant identifies Respondent Evergreen Line Joint Service Agreement (FMC #011982) as a vessel-operating ocean common carrier consisting of Evergreen Marine Corp. (Taiwan) Ltd., Evergreen Marine (UK) Limited, Italia Marittima SpA, Evergreen Marine (Hong Kong) Ltd., Evergreen Marine (Singapore) Pte. Ltd., and Evergreen Marine (Asia) Pte. Ltd.

Complainant identifies Respondent Evergreen Marine Corp. (Taiwan) Ltd. as a company existing under the laws of Taiwan with a principal place of business in Taipei City and as a vessel-operating ocean common carrier.

Complainant identifies Respondent Evergreen Marine (UK) Limited as a company existing under the laws of the United Kingdom with a principal place of business located in London, England and as a vessel-operating ocean common carrier.

Complainant identifies Respondent Italia Marittima SpA as a company existing under the laws of Italy with a principal place of business in Trieste, Italy and as a vessel-operating ocean common carrier.

Complainant identifies Respondent Evergreen Marine (Hong Kong) Ltd. as a company existing under the laws of Hong Kong with a principal place of business in Wan Chai, Hong Kong and as a vessel-operating ocean common carrier.

Complainant identifies Respondent Evergreen Marine (Singapore) Pte. Ltd. as a company existing under the laws of Singapore with a principal place of business in Southpoint, Singapore and as a vessel-operating ocean common carrier.

Complainant alleges that Respondents violated 46 U.S.C. 41102(c), 41104(a)(2), and 41104(a)(10) and 46 CFR 545.5. Complainant alleges these violations arose from a practice of systematically failing to meet service commitments, a requirement that extracontractual surcharges be paid prior to performance of service commitments, and an unreasonable assessment of demurrage and detention charges and the acts or omissions of the Respondents that led to this assessment.

An answer to the complaint must be filed with the Commission within 25 days after the date of service.

The full text of the complaint can be found in the Commission's electronic Reading Room at https://www2.fmc.gov/readingroom/proceeding/24-11/. This proceeding has been assigned to the Office of Administrative Law Judges. The initial decision of the presiding judge shall be issued by February 21, 2025, and the final decision of the Commission shall be issued by September 5, 2025.

David Eng,
Secretary.

[FR Doc. 2024-03962 Filed 2-26-24; 8:45 am]

BILLING CODE 6730-02-P